DEPARTMENT OF LABOR

Employment and Training Administration

[TA-W-72,585]

Whirlpool Corporation, Evansville Division, Including On-Site Leased Workers from Andrews International, Inc., Evansville, IN; Amended Certification Regarding Eligibility To Apply for Worker Adjustment Assistance

In accordance with Section 223 of the Trade Act of 1974, as amended (“Act”), 19 U.S.C. 2273, the Department of Labor issued a Certification of Eligibility to apply for Worker Adjustment Assistance on January 19, 2010, applicable to workers of Whirlpool Corporation, Evansville Division, Evansville, Indiana. The notice was published in the Federal Register on March 5, 2010 (75 FR 10321).

At the request of the State Agency, the Department reviewed the certification for workers of the subject firm. The workers are engaged in activities related to the production of top freezer refrigerators and residential ice makers.

The company reports that workers leased from Andrews International, Inc. were employed on-site at the Evansville, Indiana location of Whirlpool Corporation, Evansville Division. The Department has determined that these workers were sufficiently under the control of the subject firm to be considered leased workers.

Based on these findings, the Department is amending this certification to include leased workers from Andrews International, Inc. working on-site at the Evansville, Indiana location of Whirlpool Corporation, Evansville Division.

The amended notice applicable to TA-W-72,585 is hereby issued as follows:

All workers of Whirlpool Corporation, Evansville Division, including on-site leased workers from Andrews International, Inc., Evansville, Indiana, who became totally or partially separated from employment on or after December 6, 2008, through January 19, 2012, and all workers in the group threatened with total or partial separation from employment on date of certification through two years from the date of certification, are eligible to apply for adjustment assistance under Chapter 2 of Title II of the Trade Act of 1974, as amended.

Elliott S. Kushner,
Certifying Officer, Division of Trade Adjustment Assistance.

[FR Doc. 2010-13510 Filed 6-4-10; 8:45 am]

BILLING CODE 4510-FN-P